DEPARTMENT OF LABOR

Employment and Training Administration

[TA-W-55,333]

Gateway Country Store, Whitehall Mall, Whitehall, PA; Dismissal of Application for Reconsideration

Pursuant to 29 CFR 90.18(C) an application for administrative reconsideration was filed with the Director of the Division of Trade Adjustment Assistance for workers at Gateway Country Store, Whitehall Mall, Whitehall, Pennsylvania. The application contained no new substantial information which would bear importantly on the Department's determination. Therefore, dismissal of the application was issued.

TA-W-55,333; Gateway Country Store, Whitehall Mall Whitehall Mall, Pennsylvania (September 16, 2004)

Signed at Washington, DC, this 17th day of September 2004.
Timothy Sullivan,
Director, Division of Trade Adjustment Assistance.

[FR Doc. E4-2335 Filed 9-22-04; 8:45 am]

BILLING CODE 4510-30-P